DEPARTMENT OF HEALTH AND HUMAN SERVICES

Centers for Disease Control and Prevention

[60 Day-21-1182; Docket No. CDC-2021-0016]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a reinstatement of a currently approved data collection titled “Formative Research to Develop HIV Social Marketing Campaigns for Healthcare Providers.” The purpose of this data collection is to understand healthcare providers' interpretation and understanding of existing and emergent HIV prevention science; understand how providers use guidance or evidence-based approaches in their practices generally and with populations that have been largely overlooked (e.g., transgender individuals, people who inject drugs (PWID)); and to inform the development and/or revision of messages, concepts and materials for healthcare providers designed to support patient-provider communication about HIV testing, prevention, and care in support of the U.S. Department of Health and Human Services' Ending the HIV Epidemic.

DATES: CDC must receive written comments on or before May 7, 2021.

ADDRESSES: You may submit comments, identified by Docket No. CDC-2021-0016 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Formative Research to Develop HIV Social Marketing Campaigns for Healthcare Providers (OMB Control No. 0920-1182)—Reinstatement without Change—National Center for HIV/AIDS, Viral Hepatitis, STD and TB Prevention (NCHHSTP), Centers for Disease Control and Prevention (CDC).

Background and Brief Description

To address the HIV epidemic in the U.S., the Department of Health and Human Services launched Ending the HIV Epidemic: A Plan for America, which is a cross-agency initiative aiming to reduce new HIV infections in the U.S. by 90% by 2030 (CDC, 2019a). CDC's Let's Stop HIV Together campaign (formerly known as Act Against AIDS) is part of the national Ending the HIV Epidemic initiative and includes resources aimed at reducing HIV stigma and promoting testing, prevention, and treatment across the HIV care continuum.

Within this context, CDC's Division of HIV/AIDS Prevention (DHAP) has, and will continue implementing various communication initiatives to increase healthcare providers' awareness of HIV testing-, prevention- and treatment-related topics; reduce new HIV infections among disproportionately impacted populations; and improve health outcomes for people living with HIV/AIDS in the US and its territories. Specifically, the initiatives target healthcare providers, including primary care, and relevant specialties such as HIV medicine and infectious disease, physicians, physician assistants, and nurses.

The rounds of data collection include exploratory, message testing, concept testing, and materials testing. Information collected by DHAP will be used to assess healthcare providers' informational needs about topics related to HIV testing, prevention, and treatment; pre-test campaign-related messages, concepts, and materials; and evaluate the extent to which the communication initiatives are reaching the target audiences and providing them with trusted HIV-related information. Data collections will include in-depth interviews and brief surveys.

The data gathered under this request will be summarized in reports prepared for CDC by its contractor, such as quarterly and annual reports and topline reports that summarize results from each data collection. It is possible that data from this project will be published in peer-reviewed manuscripts or presented at conferences; the manuscripts and conference presentations may appear on the internet. The total estimated annualized burden hours are 902.

Estimated Annualized Burden Hours
Respondents | Form name | Number of respondents | Number of responses per respondent | Average burden per response (in hours) | Total burden (in hours)
Healthcare providers | Study screener | 1,138 | 1 | 10/60 | 190
| Web-based survey | 569 | 1 | 15/60 | 142
| Exploratory Guide—Prevention with Positives In-depth Interview | 95 | 1 | 1 | 95
| Exploratory Guide—Transgender Health In-depth Interview | 95 | 1 | 1 | 95
| Exploratory Guide—HIV Prevention In-depth Interview | 95 | 1 | 1 | 95
| Message Testing In-depth Interview Guide | 95 | 1 | 1 | 95
| Concept Testing In-depth Interview Guide | 95 | 1 | 1 | 95
| Materials Testing In-depth Interview | 95 | 1 | 1 | 95
Total |  |  |  |  | 902

Jeffrey M. Zirger,
Lead, Information Collection Review Office, Office of Scientific Integrity, Office of Science, Centers for Disease Control and Prevention.

[FR Doc. 2021-04674 Filed 3-5-21; 8:45 am]

BILLING CODE 4163-18-P